DEPARTMENT OF AGRICULTURE

Food and Nutrition Service

Agency Information Collection Activities: Proposed Collection; Comment Request—Special Supplemental Nutrition Program for Women, Infants and Children (WIC): Miscellaneous Provisions

AGENCY: Food and Nutrition Service, USDA.

ACTION: Notice.

SUMMARY: In accordance with the Paperwork Reduction Act of 1995, this notice re-opens the comment period for the general public and other public agencies to provide input on a proposed information collection as set forth in the Proposed Rulemaking entitled “WIC: Miscellaneous Provisions” that was published in the Federal Register on December 2, 2002 (67 FR 71774). The comment period is being re-opened because the analysis set forth in the Proposed Rulemaking of its reporting and recordkeeping burden did not reference the overall WIC Program reporting and record-keeping requirements designated by the Office and Management and Budget as Information Collection Burden #0584-0043. Also, this analysis omitted one of the proposed provisions that impacted on the burden and misidentified another such provision. Therefore, the Department is offering the public a second opportunity to consider and comment on the proposed changes in the information collection burden based on the provisions of the Proposed Rule.

DATES: Written comments must be received on or before March 26, 2004.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Debra R. Whitford, Chief, Policy and Program Development Branch, Supplemental Food Programs Division, Food and Nutrition Service, U.S. Department of Agriculture, 3101 Park Center Drive, Room 522, Alexandria, Virginia 22302. Comments may also be submitted via fax to the attention of Debra R. Whitford at (703) 305-2196 or via e-mail to wichq-web@fns.usda.gov. In all cases, including when comments are sent via email, please label your comments as “Proposed Collection of Information: WIC Miscellaneous Provisions.”

All written comments will be open for public inspection at the office of the Food and Nutrition Service during regular business hours (8:30 a.m. to 5 p.m. Monday through Friday) at 3101 Park Center Drive, Room 522, Alexandria, Virginia 22302.

All responses to this notice will be summarized and included in the request for OMB approval. All comments will be a matter of public record.

FOR FURTHER INFORMATION CONTACT: Requests for additional information or copies of this information should be directed to Debra R. Whitford at (703) 305-2746.

SUPPLEMENTARY INFORMATION: Title: WIC: Miscellaneous Provisions (Proposed Rule).

OMB Number: 0584-0043.

Form Number: N/A.

Expiration Date: January 31, 2004.

Type of Request: Revision of a currently approved collection.

Abstract: The new reporting burden reflected in this action is associated with additional elements that are proposed to become part of the annual State Plan of Operations under the Proposed Rulemaking entitled “WIC: Miscellaneous Provisions” that was published in the Federal Register on December 2, 2002 (67 FR 71774). The comment period for the entire reporting burden associated with that Proposed Rule, including both the burden which was cited in the Rule and the burden which had been inadvertently omitted from the Rule, is being reopened.

Respondents: State agencies administering the WIC Program through a Federal grant of funds.

Estimated Number of Respondents: See chart below.

Number of Responses per Respondent: See chart below.

Estimated Time per Response: See chart below.

Estimated Total Annual Burden on Respondents: See chart below.

BILLING CODE 3410-30-P

BILLING CODE 3410-30-C

Proposed Reporting Requirements: Section 246.4(a)(11)(i)(E) will require a description in the State Plan of the State agency's alternate language for advising applicants, parents or caretakers of their rights and responsibilities when applying for program benefits, if the State agency chooses to use language other than the statements set forth in § 246.7(j)(2) of the WIC regulations. The use of alternate language by State agencies is optional under the Proposed Rulemaking. —88 hours

Section 246.4(a)(11)(i) will require a description in the State Plan of the State agency's policies for requiring proof of pregnancy, if the State agency chooses to require such proof. Requiring proof of pregnancy is an option for State agencies under the Proposed Rulemaking. The Proposed Rulemaking set forth this option in § 246.7(c)(2)(ii), and the preamble stated that a State Plan provision would be needed if the State agency wanted to use this option, but this provision was inadvertently omitted from the State Plan requirements, § 246.4(a)(11)(i). —44 hours

Section 246.4(a)(21) was inadvertently misidentified in the chart entitled “Estimated Annual Reporting Burden” in the Proposed Rulemaking as § 246.4(a)(18). Section 246.4(a)(21) requires a description in the State Plan of the State agency's policy for approving the expenditure of WIC Program nutrition services and administration funds (NSA) for transporting WIC participants to and from WIC clinics, if the State agency chooses to expend NSA funds for such transportation costs. This provision is optional for State agencies in the Proposed Rulemaking. —88 hours

Section 246.4(a)(24) requires a listing in the State Plan of the organizations with whom the State agency will share confidential participant information if the State agency chooses to enter into information-sharing agreements with certain organizations. This provision is optional for State agencies under the Proposed Rulemaking. —88 hours

The Proposed Rulemaking inadvertently omitted § 246.4(a)(26) from the chart entitled “Estimated Annual Reporting Burden” in the Proposed Rulemaking. This section requires a description in the State Plan of the State agency's plans for collecting and maintaining information on cases of participant and employee fraud and abuse. —88 hours

Dated: January 16, 2004.
Roberto Salazar,
Administrator, Food and Nutrition Service.

[FR Doc. 04-1511 Filed 1-23-04; 8:45 am]

BILLING CODE 3410-30-P